DEPARTMENT OF DEFENSE

Defense Acquisition Regulations System

[Docket DARS-2016-0045; OMB Control Number 0704-0253]

Submission for OMB Review; Comment Request

ACTION: Notice.

SUMMARY: The Defense Acquisition Regulations System has submitted to OMB for clearance, the following proposal for collection of information under the provisions of the Paperwork Reduction Act.

DATES: Consideration will be given to all comments received by April 26, 2017.

SUPPLEMENTARY INFORMATION:

Title and OMB Number: Subcontracting Policies and Procedures—DFARS Part 244; OMB Control Number 0704-0253.

Type of Request: Revision of a currently approved collection.

Number of Respondents: 36.

Responses per Respondent: 2.

Annual Responses: 72.

Average Burden per Response: 8 hours.

Annual Burden Hours: 576.

Needs and Uses: Contracting officers use the information provided in contractor responses to initial and final business system determinations as a basis for either approving or disapproving the contractor's purchasing system. DFARS 244.305-71, Contractor Purchasing System, prescribes the use of the following clause and its alternate:

a. DFARS clause 252.244-7001, Contractor Purchasing System Administration—Basic, which is prescribed for use in solicitations and contracts containing the clause at FAR 52.244-2, Subcontracts.

b. DFARS clause 252.244-7001, Contractor Purchasing System Administration—Alternate I, which is prescribed for use in solicitations and contracts that contain DFARS clause 252.246-7007, Contractor Counterfeit Electronic Part Detection and Avoidance System, but do not contain FAR 52.244-2, Subcontracts.

The basic clause and its alternate provide the criteria necessary for contractors to establish an acceptable purchasing system. Paragraph (d)(2) of the clause requires the contractor to respond within 30 days to the contracting officer's written initial determination that significant deficiencies exist in the contractor's purchasing system. If the contractor disagrees with the initial determination, the contractor responds, providing rationale for disagreeing. Paragraph (e) of both the clause and its Alternate requires the contractor to respond within 45 days to the contracting officer's final determination that significant deficiencies exist, and to either correct the significant deficiencies or submit an acceptable corrective action plan showing milestones and actions.

Affected Public: Businesses or other for-profit and not-for profit institutions.

Frequency: On occasion.

Respondent's Obligation: Required to obtain or retain benefits.

OMB Desk Officer: Ms. Jasmeet Seehra.

Written comments and recommendations on the proposed information collection should be sent to Ms. Seehra at the Office of Management and Budget, Desk Officer for DoD, Room 10236, New Executive Office Building, Washington, DC 20503.

You may also submit comments, identified by docket number and title, by the following method:

Federal eRulemaking Portal: http://www.regulations.gov. Follow the instructions for submitting comments.

Instructions: All submissions received must include the agency name, docket number, and title for the Federal Register document. The general policy for comments and other public submissions from members of the public is to make these submissions available for public viewing on the internet at http://www.regulations.gov as they are received without change, including any personal identifiers or contact information provided. To confirm receipt of your comment(s), please check http://www.regulations.gov approximately two to three days after submission to verify posting (except allow 30 days for posting of comments submitted by mail).

DoD Clearance Officer: Mr. Frederick C. Licari.

Written requests for copies of the information collection proposal should be sent to Mr. Licari at: Information Collections Program, WHS/ESD Office of Information Management, 4800 Mark Center Drive, 3rd Floor, East Tower, Suite 03F09, Alexandria, VA 22350-3100.

Jennifer L. Hawes,
Editor, Defense Acquisition Regulations System.

[FR Doc. 2017-05994 Filed 3-24-17; 8:45 am]

BILLING CODE 5001-06-P